ENVIRONMENTAL PROTECTION AGENCY

[EPA-HQ-OPP-2010-0014; FRL-9904-23]

Product Cancellation Order for Certain Pesticide Registrations

AGENCY: Environmental Protection Agency (EPA).

ACTION: Notice.

SUMMARY: This notice announces EPA's order for the cancellations, voluntarily requested by the registrants and accepted by the Agency, of the products listed in Table 1 of Unit II., pursuant to the Federal Insecticide, Fungicide, and Rodenticide Act (FIFRA). This cancellation order follows a June 12, 2013, Federal Register Notice of Receipt of Requests from the registrants listed in Table 2 of Unit II., to voluntarily cancel these product registrations. In the June 12, 2013, notice, EPA indicated that it would issue an order implementing the cancellations, unless the Agency received substantive comments within the 180-day comment period that would merit its further review of these requests, or unless the registrants withdrew their requests. The Agency did not receive any comments on the notice. Further, the registrants did not withdraw their requests. Accordingly, EPA hereby issues in this notice a cancellation order granting the requested cancellations. Any distribution, sale, or use of the products subject to this cancellation order is permitted only in accordance with the terms of this order, including any existing stocks provisions.

DATES: The cancellations are effective January 8, 2014.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2010-0014, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What Action is the Agency Taking?

This notice announces the cancellation, as requested by registrants, of products registered under FIFRA section 3. These registrations are listed in sequence by registration number in Table 1 of this unit.

Table 1—Product Cancellations
EPA registration No. | Product name | Chemical name
000264-00668 | Liberty ATZ Herbicide | Atrazine, Glufosinate.
000264-00784 | Renounce 20WP Insecticide | Cyfluthrin.
000264-00985 | GB34 Concentrate Biological Fungicide | Bacillus pumilus strain GB34.
000264-00986 | GB34 Technical Biological Fungicide | Bacillus pumilus strain GB34.
000264-01007 | Decis 0.2 EC | Deltamethrin.
000264-01008 | Decis 0.2 EC Gel | Deltamethrin.
000264-01012 | Decis 1.0 Gel Insecticide | Deltamethrin.
000264-01117 | Yield Shield FS 200 | Bacillus pumilus strain GB34.
000400-00469 | Dimilin 25W Mushrooms | Diflubenzuron.
000400-00470 | Dimilin 35W for Pasturegrass Mosquitoes | Diflubenzuron.
000400-00471 | Micromite 25WS | Diflubenzuron.
000400-00511 | Dimilin 80WGS | Diflubenzuron.
000432-00954 | Finale Super Concentrate Weed, Grass and Brush Killer | Glufosinate.
000432-00955 | Finale Ready-To-Use Weed and Grass Killer | Glufosinate.
000432-00956 | Finale Concentrate Weed, Grass and Brush Killer | Glufosinate.
000655-00802 | Prentox Larva-Lur Contains Propoxur | Propoxur.
009779-00262 | MCPA Amine Herbicide | MCPA, dimethylamine salt.
009779-00265 | MCPA LV Ester | MCPA, 2-ethylhexyl ester.
053883-00220 | Oryzalin 2G | Oryzalin, Benfluralin.
AL-090001 | Reflex Herbicide | Sodium salt of fomesafen.
AR-080004 | Reflex Herbicide | Sodium salt of fomesafen.
AR-080005 | Superwham! (Alternate Name Forwham! EZ) | Propanil.
AR-080006 | Riceshot | Propanil.
AR-080007 | Ricepro | Quinclorac, Propanil.
AR-080008 | Duet | Propanil, Bensulfuron-methyl.
AR-080009 | Superwham! (Alternate Name For Wham! EZ) | Propanil.
AR-080013 | Ricebeaux | Propanil, Thiobencarb.
AR-120001 | Ricebeaux Herbicide | Thiobencarb, Propanil.
AR-120002 | Ricebeaux | Thiobencarb, Propanil.
AR-120003 | Ricepro | Quinclorac, Propanil.
CO-060007 | Gramoxone Inteon | Paraquat dichloride.
FL-090006 | Knockout | Diquat dibromide.
GA-090005 | Milestone VM | Triisopropanolamine salt of aminopyralid.
GA-100004 | Endigo ZC | Thiamethoxam lambda-Cyhalothrin.
MO-120006 | V-10142 AG Herbicide | Imazosulfuron.
ND-020009 | Bravo 720 | Chlorothalonil.
OR-010006 | Cobra Herbicide | Lactofen.
OR-040015 | Ethrel Brand Ethephon Plant Regulator | Ethephon.
OR-040031 | Rovral 4 Flowable Fungicide | Iprodione.
OR-050017 | Simazine 4L | Simazine.
OR-070002 | Chateau Herbicide WDG | Flumioxazin.
OR-070019 | Acramite-4SC | Bifenazate.
OR-070022 | RTU-Vitavax-Thiram Seed Protectant Fungicide | Thiram, Carboxin.
OR-070028 | Define SC Herbicide | Flufenacet.
OR-070030 | Define SC Herbicide | Flufenacet.
OR-080020 | DuPont Direx 4L Herbicide | Diuron.
OR-100004 | Chateau Herbicide WDG | Flumioxazin.
OR-120009 | Palisade 2EC | Trinexapac-ethyl.
WA-000021 | Orthene 97 Pellets | Acephate.
WA-010038 | Crossbow | 2,4-D butoxyethyl ester acetic acid (3,5,6-trichloro-2-pyridinyl) oxy)-,2-butoxyethel ester.
WA-020012 | Echo 720 | Chlorothalonil.
WA-060017 | Orthene 97 | Acephate.
WA-810064 | Orthene 75 S Soluble Powder | Acephate.
WA-960024 | Orthene 75 S Soluble Powder | Acephate.

Table 2 of this unit includes the names and addresses of record for all registrants of the products in Table 1 of this unit, in sequence by EPA company number. This number corresponds to the first part of the EPA registration numbers of the products listed in Table 1 of this unit.

Table 2—Registrants of Cancelled Products
EPA Company number | Company name and address
264; OR-040015; OR-040031; OR-070022; OR-070028; OR-070030 | Bayer CropScience, LP, 2 T.W. Alexander Dr., P.O. Box 12014, Research Triangle Park, NC 27709.
400; OR-070019 | Chemtura Corporation, 199 Benson Rd., Middlebury, CT 06749.
432 | Bayer Environmental Science, A Division of Bayer CropScience, LP, 2 T.W. Alexander Dr., P.O. Box 12014, Research Triangle Park, NC 27709.
655 | Prentis, LLC, Agent: Pyxis Regulatory Consulting, Inc., 4110 136th St. NW., Gig Harbor, WA 98332.
9779; OR-080020 | Winfield Solutions, LLC, P.O. Box 64589, St. Paul, MN 55164-0589.
53883 | Control Solutions, Inc., 5903 Genoa Red Bluff, Pasadena, TX 77507-1041.
AL-090001; AR-080004; CO-060007; FL-090006; GA-100004; ND-020009; OR-120009 | Syngenta Crop Protection, LLC, 410 Swing Rd., P.O. Box 18300, Greensboro, NC 27419-8300.
AR-080005; AR-080006; AR-080007; AR-080008; AR-080009; AR-080013; AR-120001; AR-120002; AR-120003 | Riceco, LLC, 5100 Poplar Ave., Suite 2428, Memphis, TN 38137.
GA-090005; WA-010038 | Dow AgroSciences, LLC, 9330 Zionsville Rd., 308/2E, Indianapolis, IN 46268-1054.
MO-120006; OR-100004; OR-010006; OR-070002 | Valent U.S.A. Corporation, 1600 Riviera Ave., Suite 200, Walnut Creek, CA 94596.
OR-050017 | Loveland Products, P.O. Box 1286, Greeley, CO 80632-1286.
WA-000021; WA-060017; WA-810064; WA-960024 | Amvac Chemical Corporation, 4695 McArthur Ct., Suite 1200, Newport Beach, CA 92660-1706.
WA-020012 | Sipcam Agro USA, Inc., 2520 Meridian Parkway, Suite 525, Durham, NC 27713.

III. Summary of Public Comments Received and Agency Response to Comments

During the public comment period provided, EPA received no comments in response to the June 12, 2013, Federal Register notice announcing the Agency's receipt of the requests for voluntary cancellations of products listed in Table 1 of Unit II.

IV. Cancellation Order

Pursuant to FIFRA section 6(f), EPA hereby approves the requested cancellations of the registrations identified in Table 1 of Unit II. Accordingly, the Agency hereby orders that the product registrations identified in Table 1 of Unit II. are canceled. The effective date of the cancellations that are the subject of this notice is January 8, 2014. Any distribution, sale, or use of existing stocks of the products identified in Table 1 of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of June 12, 2013 (78 FR 35265) (FRL-9388-6). The comment period closed on December 9, 2013.

VI. Provisions for Disposition of Existing Stocks

Existing stocks are those stocks of registered pesticide products which are currently in the United States and which were packaged, labeled, and released for shipment prior to the effective date of the cancellation action. The existing stocks provisions for the products subject to this order are as follows.

The registrants may continue to sell and distribute existing stocks of products listed in Table 1 of Unit II. until January 8, 2015, which is 1 year after the publication of the Cancellation Order in the Federal Register. Thereafter, the registrants are prohibited from selling or distributing products listed in Table 1, except for export in accordance with FIFRA section 17, or proper disposal. Persons other than the registrants may sell, distribute, or use existing stocks of products listed in Table 1 of Unit II. until existing stocks are exhausted, provided that such sale, distribution, or use is consistent with the terms of the previously approved labeling on, or that accompanied, the canceled products.

List of Subjects

Environmental protection, Pesticides and pests.

Dated: December 20, 2013.
Richard P. Keigwin, Jr.,
Director, Pesticide Re-Evaluation Division, Office of Pesticide Programs.

[FR Doc. 2014-00033 Filed 1-7-14; 8:45 am]

BILLING CODE 6560-50-P